DEPARTMENT OF ENERGY

Environmental Management Site-Specific Advisory Board, Oak Ridge Reservation

AGENCY: Department of Energy.

ACTION: Notice of open meeting correction.

On April 17, 2009, the Department of Energy published a notice of open meeting announcing a meeting of the Environmental Management Site-Specific Advisory Board, Oak Ridge Reservation 74 FR 17841. In that notice, the main meeting presentation was to be on the Consortium for Risk Evaluation with Stakeholder Participation. Today's notice is announcing that the main meeting presentation will be on American Recovery and Reinvestment Act Funding for the Department of Energy Oak Ridge Environmental Management Program.

Issued in Washington, DC, on May 1, 2009.
Rachel Samuel,
Deputy Committee Management Officer.

[FR Doc. E9-10469 Filed 5-5-09; 8:45 am]

BILLING CODE 6450-01-P